SMALL BUSINESS ADMINISTRATION

GMB Mezzanine Capital II, L.P. License No. 05/05-0299; Notice Seeking Exemption Under Section 312 of the Small Business Investment Act, Conflicts of Interest

Notice is hereby given that GMB Mezzanine Capital II, L.P., 50 South Sixth Street, Suite 1460, Minneapolis, MN 55402, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). GMB Mezzanine Capital II, L.P. proposes to provide subordinated debt financing to H & R Accounts, Inc. d.b.a. Avadyne Health, Inc., 7017 John Deere Parkway, Moline, IL 61265.

The financing is brought within the purview of § 107.730(a)(4) of the Regulations because GMB Mezzanine Capital, L.P., a current investor in H & R Accounts, Inc. and an Associate of GMB Mezzanine Capital II, L.P., will receive repayment of its subordinated debt investment from the proceeds of GMB Mezzanine Capital II, L.P.'s proposed investment. Therefore, this transaction is considered providing financing to a Small Business to discharge an obligation to an Associate, requiring SBA prior written exemption.

Notice is hereby given that any interested person may submit written comments on the transaction, within fifteen days of the date of this publication, to the Associate Administrator for the Office of Investment and Innovation, U.S. Small Business Administration, 409 Third Street SW., Washington, DC 20416.

Dated: March 17, 2015.
Javier E. Saade,
Associate Administrator for Office of Investment and Innovation.

[FR Doc. 2015-07582 Filed 4-1-15; 8:45 am]

BILLING CODE CODE 8025-01-P